DEPARTMENT OF TRANSPORTATION

Surface Transportation Board

[Docket No. FD 35641]

Sisseton Milbank Railroad Company—Acquisition and Operation Exemption—SLA Property Management Limited Partnership and Sisseton Milbank Railroad, Inc.

Sisseton Milbank Railroad Company (SMRC), a noncarrier, has filed a verified notice of exemption under 49 CFR 1150.31 to acquire from SLA Property Management Limited Partnership and Sisseton Milbank Railroad, Inc., their interests in, and to operate, an approximately 37.1-mile rail line between approximate railroad milepost 0.9 in or near Milbank and approximate railroad milepost 38.0 in or near Sisseton, in Grant and Roberts Counties, S.D.

This transaction is related to a concurrently filed petition for exemption in Docket No. FD 35642, Twin Cities & Western Railroad Company, the Estate of Douglas M. Head and the DMH Trust fbo Martha M. Head—Continuance in Control Exemption—Sisseton Milbank Railroad Company, in which Twin Cities & Western Railroad Company (TCW), the Estate of Douglas M. Head (Estate), and the DMH Trust fbo Martha M. Head (Trust) seek Board approval to continue in control of SMRC upon SMRC's becoming a Class III rail carrier.¹

¹ SMRC states that it is a wholly owned subsidiary of TCW, which is currently controlled by the Estate, and that it is anticipated that the TCW stock held by the Estate will be distributed to the Trust in the near future.

The parties expect to consummate the transaction on or after July 16, 2012.²

SMRC certifies that its projected annual revenues as a result of this transaction do not exceed those that would qualify it as a Class III rail carrier and will not exceed $5 million.

² SMRC indicates that, because it is likely that the acquisition transaction will close prior to the Board's issuance of a decision on TCW's continuance-in-control petition, TCW has entered into a Voting Trust Agreement pursuant to 49 CFR part 1013, under which the shares of SMRC will be deposited in a voting trust.

If the verified notice contains false or misleading information, the exemption is void ab initio. Petitions to revoke the exemption under 49 U.S.C. 10502(d) may be filed at any time. The filing of a petition to revoke will not automatically stay the effectiveness of the exemption. Petitions to stay must be filed no later than July 6, 2012 (at least seven days before the exemption becomes effective).

An original and ten copies of all pleadings, referring to Docket No. FD 35641, must be filed with the Surface Transportation Board, 395 E Street SW., Washington, DC 20423-0001. In addition, a copy of each pleading must be served on Rose-Michele Nardi, Weiner Brodsky Sidman Kider, PC, 1300 Nineteenth Street NW., Fifth Floor, Washington, DC 20036-1609.

Board decisions and notices are available on our Web site at “www.stb.dot.gov.”

Decided: June 26, 2012.
By the Board.
Rachel D. Campbell,
Director, Office of Proceedings.
Derrick A. Gardner,
Clearance Clerk.

[FR Doc. 2012-15957 Filed 6-28-12; 8:45 am]

BILLING CODE 4915-01-P